DEPARTMENT OF HEALTH AND HUMAN SERVICES

Substance Abuse and Mental Health Services Administration

Center for Substance Abuse Prevention; Notice of Meeting

Pursuant to Pub. L. 92-463, notice is hereby given of the meeting of the SAMHSA Center for Substance Abuse Prevention (CSAP) National Advisory Council in September 2003.

The agenda will include the review, discussion, and evaluation of individual grant applications. Therefore a portion of the meeting will be closed to the public as determined by the Administrator, SAMHSA, in accordance with Title 5 U.S.C. 552b(c)(6) and 5 U.S.C. App.2, 10(d).

The agenda for the open portion of the meeting will include the SAMHSA Administrator's Report, the CSAP's Director's Report, updates on the Faith-Based Summit, and Standard Funding Mechanisms, discussion on CSAP's future and new program directions for FY 2004, reports on CSAP's divisions, Council discussions, and administrative matters and announcements.

A summary of this meeting, a roster of committee members and substantive program information may be obtained from Carol Watkins, Executive Secretary, Rockwall II Building, Suite 900, 5600 Fishers Lane, Rockville, Maryland 20857, Telephone: (301) 443-9542. Public comments are welcome. Please communicate with the individual listed below as contact for guidance. If anyone needs special accommodations for persons with disabilities, please notify the contact listed below.

Committee Name: SAMHSA Center for Substance Abuse Prevention National Advisory Council.

Meeting Dates: Wednesday, September 17, 2003, 9 a.m.-12 noon (Closed Session); Wednesday, September 17, 2003, 1:15 p.m.-5 p.m. (Open Session); Thursday, September 18, 2003, 9 a.m.-12 noon (Open Session).

Meeting Place: Wyndham City Center Hotel, 1143 New Hampshire Avenue, NW., Washington, DC, Mt. Vernon Room (Lobby Level), Telephone (202) 775-0800.

Contact: Carol D. Watkins, Executive Secretary, 5600 Fishers Lane, Rockwall II Building, Suite 900, Rockville, Maryland 20857, Telephone: (301) 443-9542.

Dated: September 11, 2003.
Toian Vaughn,
Executive Secretary/Committee Management Officer, Substance Abuse and Mental Health Services Administration.

[FR Doc. 03-23783 Filed 9-17-03; 8:45 am]

BILLING CODE 4162-20-P